DEPARTMENT OF COMMERCE

Office of the Secretary

Agency Information Collection Activities; Submission to the Office of Management and Budget (OMB) for Review and Approval; Comment Request; Generic Clearance for the Collection of Qualitative Feedback on Agency Service Delivery

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 24, 2020 (85 FR 16612) during a 60-day comment period. This notice allows for an additional 30 days for public comments.

Agency: Office of the Secretary.

Title: Generic Clearance for the Collection of Qualitative Feedback on Agency Service Delivery.

OMB Control Number: 0690-0030.

Form Number(s): None.

Type of Request: Regular submission (an extension of a current information collection).

Number of Respondents: 122,355.

Average Hours per Response: 5 to 30 minutes for surveys; 1 to 2 hours for focus groups; 30 minutes to 1 hour for interviews (Other response times will depend on the type of information collected).

Burden Hours: 18,512.

Needs and Uses: This request is for an extension of a currently approved information collection of a “Generic Fast-track” process offered to all government agencies by OMB in 2010. Fast-track means that each request receives approval five days after submission if no issues are brought to DOC's attention by OMB within five days.

The information collection activity for this fast-track process will garner qualitative customer and stakeholder feedback in an efficient, timely manner, in accordance with the Department of Commerce's commitment to improving service delivery. By qualitative feedback we mean information that provides useful insights on perceptions and opinions, but are not statistical surveys that yield quantitative results that can be generalized to the population of study. This feedback will provide insights into customer or stakeholder perceptions, experiences, and expectations, provide an early warning of issues with service, or focus attention on areas where communication, training or changes in operations might improve delivery of products or services. These collections will allow for ongoing, collaborative, and actionable communications between the Department and its customers and stakeholders. It will also allow feedback to contribute directly to the improvement of program management.

Affected Public: Individuals or households; Business or other for-profit organizations; Not-for-profit institutions; State, Local or Tribal Government; Federal Government, etc.

Frequency: One-time; Annually.

Respondent's Obligation: Voluntary.

Legal Authority: 44 U.S.C. 3501 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0030.

Sheleen Dumas,
Department PRA Clearance Officer, Office of the Chief Information Officer, Commerce Department.

[FR Doc. 2020-12413 Filed 6-8-20; 8:45 am]

BILLING CODE 3510-17-P